INTERNATIONAL TRADE COMMISSION

[Investigation No. 337-TA-896]

Certain Thermal Support Devices for Infants, Infant Incubators, Infant Warmers, and Components Thereof

AGENCY: U.S. International Trade Commission.

ACTION: Notice.

SUMMARY: Notice is hereby given that the U.S. International Trade Commission has determined not to review an initial determination (“ID”) (Order No. 7) granting a joint motion to terminate the above-captioned investigation based on a settlement agreement. The investigation is terminated.

FOR FURTHER INFORMATION CONTACT: Clark S. Cheney, Office of the General Counsel, U.S. International Trade Commission, 500 E Street SW., Washington, DC 20436, telephone 202-205-2661. Copies of non-confidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on October 3, 2013, based on a complaint filed by Draeger Medical Systems, Inc., of Telford, Pennsylvania (“Draeger”). 78 FR 61383 (Oct. 3, 2013). The complaint alleged violations of section 337 of the Tariff Act of 1930, as amended (19 U.S.C. 1337), in the importation into the United States, the sale for importation, and the sale within the United States after importation of certain thermal support devices for infants, infant incubators, infant warmers, and components thereof by reason of infringement of certain claims of U.S. Patent Nos. 6,483,080 and 7,335,157. The notice of investigation named Atom Medical International, Inc., of Tokyo, Japan (“Atom”) as the sole respondent.

On February 5, 2014, Draeger and Atom jointly moved to terminate the investigation based upon a settlement agreement. On February 12, 2014, the Commission investigative attorney filed a response in support of the motion.

On February 14, 2014, the ALJ issued the subject ID granting the motion to terminate the investigation. The ALJ determined that the parties stated there are no agreements between the parties concerning the subject matter of this investigation other than the settlement agreement between Draeger and Atom. The ALJ further determined that the parties filed a public version of the settlement agreement in accordance with the Commission's rules. The ALJ also determined that there is no indication that termination of this investigation based on the settlement agreement would have an adverse impact on the public interest. No petitions for review of the ID were filed.

The Commission has determined not to review the ID. The investigation is terminated.

The authority for the Commission's determination is contained in section 337 of the Tariff Act of 1930, as amended (19 U.S.C. 1337), and in Part 210 of the Commission's Rules of Practice and Procedure (19 CFR Part 210).

By order of the Commission.
Issued: March 19, 2014.
Lisa R. Barton,
Acting Secretary to the Commission.

[FR Doc. 2014-06429 Filed 3-24-14; 8:45 am]

BILLING CODE 7020-02-P